FEDERAL COMMUNICATIONS COMMISSION

Radio Broadcasting Services; AM or FM Proposals To Change the Community of License

AGENCY: Federal Communications Commission.

ACTION: Notice.

DATES: The agency must receive comments on or before September 28, 2018.

ADDRESSES: Federal Communications Commission, 445 Twelfth Street SW, Washington, DC 20554.

FOR FURTHER INFORMATION CONTACT: Rolanda F. Smith, 202-418-2054.

SUPPLEMENTARY INFORMATION: The following applicants filed AM or FM proposals to change the community of license: MARION R. WILLIAMS, WAKE(AM), Fac. ID No. 53057, Channel 1500 kHz, From VALPARAISO, IN, To HOBART, IN, BP-20180504ABA; MARSHFIELD BROADCASTING CO., INC., WMEX(AM), Fac. ID No. 12789, Channel 1510 kHz, From BOSTON, MA, To QUINCY, MA, BP-20180615AAH; REVIVAL CHRISTIAN MINISTRIES, INC., WSGG(FM), Fac. ID No. 92857, Channel 207A, From NORFOLK, CT, To CANAAN, CT, BPED-20180430AAI; RIVER RAT RADIO, LLC, NEW(FM), Fac. ID No. 198736, Channel 269C2, From BAGDAD, AZ, To CIENEGA SPRINGS, AZ, BMPH-20180530AAZ; PHARIS BROADCASTING, INC., KHGG-FM, Fac. ID No. 12231, Channel 278A, From WALDRON, AR, To MANSFIELD, AR, BPH-20180619AAZ; PHARIS BROADCASTING, INC., KQBK(FM), Fac. ID No. 71701, Channel 284C2, From BOONEVILLE, AR, To WALDRON, AR, BPH-20180619ABA; and BRYAN A. KING, KOTY(FM), Fac. ID No. 83100, Channel 240C3, From MERTZON, TX, To CHRISTOVAL, TX, BPH-20180709AAU.

The full text of these applications is available for inspection and copying during normal business hours in the Commission's Reference Center, 445 12th Street SW, Washington, DC 20554 or electronically via the Media Bureau's Consolidated Data Base System, http://licensing.fcc.gov/prod/cdbs/pubacc/prod/cdbs_pa.htm.

Federal Communications Commission.
Nazifa Sawez,
Assistant Chief, Audio Division, Media Bureau.

[FR Doc. 2018-16152 Filed 7-27-18; 8:45 am]

BILLING CODE 6712-01-P